DEPARTMENT OF COMMERCE

Foreign-Trade Zones Board

[B-47-2020]

Foreign-Trade Zone (FTZ) 49—Newark and Elizabeth, New Jersey; Authorization of Production Activity; Catalent Pharma Solutions (Pharmaceutical Products), Somerset, New Jersey

On July 17, 2020, Catalent Pharma Solutions submitted a notification of proposed production activity to the FTZ Board for its facility within Subzone 49T, in Somerset, New Jersey.

The notification was processed in accordance with the regulations of the FTZ Board (15 CFR part 400), including notice in the Federal Register inviting public comment (85 FR 47166-47167, August 4, 2020). On November 16, 2020, the applicant was notified of the FTZ Board's decision that no further review of the activity is warranted at this time. The production activity described in the notification was authorized, subject to the FTZ Act and the FTZ Board's regulations, including Section 400.14.

Dated: November 16, 2020.
Andrew McGilvray,
Executive Secretary.

[FR Doc. 2020-25542 Filed 11-18-20; 8:45 am]

BILLING CODE 3510-DS-P